DEPARTMENT OF COMMERCE

International Trade Administration

[A-570-891]

Hand Trucks and Certain Parts Thereof From the People's Republic of China; Notice of Extension of Time Limits for Preliminary Results in Antidumping Duty Administrative Review and New Shipper Review

AGENCY: Import Administration, International Trade Administration, Department of Commerce.

Effective Date: August 3, 2006.

FOR FURTHER INFORMATION CONTACT: Elizabeth Eastwood or Nichole Zink, AD/CVD Operations, Office 2, Import Administration, International Trade Administration, U.S. Department of Commerce, 14th Street and Constitution Avenue, NW., Washington, DC 20230; telephone: (202) 482-3874 and (202) 482-0049, respectively.

SUPPLEMENTARY INFORMATION:

Background

On February 1 and February 3, 2006, respectively, the Department of Commerce (the Department) published notices of initiation of administrative and new shipper reviews of the antidumping duty order on hand trucks and certain parts thereof (hand trucks) from the People's Republic of China (PRC). See Initiation of Antidumping and Countervailing Duty Administrative Reviews and Request for Revocation in Part, 71 FR 5241 (Feb. 1, 2006); and Hand Trucks and Certain Parts Thereof From the People's Republic of China; Initiation of New Shipper Review, 71 FR 5810 (Feb. 3, 2006).

On May 31, 2006, the Department published a notice aligning the time limits for the new shipper review with those for the administrative review. See Hand Trucks and Certain Parts Thereof from the People's Republic of China: Notice of Postponement of Time Limits for New Shipper Antidumping Duty Review in Conjunction with Administrative Review, 71 FR 30867 (May 31, 2006). Consequently, the preliminary results for both proceedings are currently due no later than September 5, 2006.

The period of review for both proceedings is December 1, 2004, through November 30, 2005. The new shipper review covers one producer/exporter of the subject merchandise to the United States. The administrative review covers five producers/exporters of the subject merchandise to the United States.

Extension of Time Limits for Preliminary Results

Pursuant to section 751(a)(3)(A) of the Tariff Act of 1930, as amended (the Act), and 19 CFR 351.213(h)(1), the Department shall make a preliminary determination in an administrative review of an antidumping order within 245 days after the last day of the anniversary month of the date of publication of the order. The Act further provides, however, that the Department may extend the 245-day period to 365 days if it determines it is not practicable to complete the review within the foregoing time period. See also, 19 CFR 351.213(h)(2). We determine that it is not practicable to complete this administrative review within the time limits mandated by section 751(a)(3)(A) of the Act because the Department's selection of mandatory respondents in this administrative review was not completed until May 2006, due to the withdrawal of the request for review of the company originally designated as the sole mandatory respondent. As a result, the Department was required to select additional mandatory respondents from the firms named in the notice of initiation and issue questionnaires to them. Because additional time is required to analyze these parties' responses, we have fully extended the deadline for completing the preliminary results until January 2, 2007, which is the next business day after 365 days from the last day of the anniversary month of the date of publication of the order. The deadline for the final results of the review continues to be 120 days after the publication of the preliminary results.

This extension is in accordance with section 751(a)(3)(A) of the Act and 19 CFR 351.213(h)(2).

Dated: July 26, 2006.
Stephen J. Claeys,
Deputy Assistant Secretary for Import Administration.

[FR Doc. E6-12551 Filed 8-2-06; 8:45 am]

BILLING CODE 3510-DS-P